DEPARTMENT OF DEFENSE

Office of the Secretary

Notice of Availability of Draft Environmental Impact Statement for the Continental United States Interceptor Site

AGENCY: Missile Defense Agency, Department of Defense.

ACTION: Notice of availability and notice of activity in Wetlands as required by Executive Order 11990 (Protection of Wetlands).

SUMMARY: The Missile Defense Agency (MDA) announces the availability of the Draft Environmental Impact Statement (EIS) for the potential deployment of a Continental United States (CONUS) Interceptor Site (CIS). A CIS Draft EIS was prepared in accordance with the National Environmental Policy Act (NEPA) of 1969 and the Council on Environmental Quality Regulations for Implementing the Procedural Provisions of NEPA and assesses the impacts of the potential deployment of a CIS.

As required by the fiscal year 2013 National Defense Authorization Act, the MDA has conducted extensive surveys and assessments for development of a Draft EIS in order to evaluate candidate sites for the potential future deployment of additional ground-based interceptors for homeland defense against threats from nations such as North Korea and Iran.

All potential sites analyzed in this Draft EIS contain wetlands that would be affected. All practicable measures were taken to arrange a CIS footprint to minimize and avoid impacts to wetlands while still maintaining operational effectiveness. However there are no practicable deployment alternatives that would completely avoid impacts to wetlands. If a deployment decision were made MDA would coordinate with the U.S. Army Corps of Engineers and applicable state department of environmental protection to determine appropriate mitigations for wetland impacts. As required by Executive Order (EO) 11990 (Protection of Wetlands), MDA would prepare a Finding of No Practicable Alternative (FONPA) for the selected site. The FONPA would explain why there is no practicable alternative to impacting wetlands at the identified site. MDA is providing a public review, in accordance with EO 11990, of its findings in the Draft EIS concerning wetlands impacts and potential mitigation measures.

DATES: The public comment period will be from June 3 to July 18, 2016.

ADDRESSES: Comments on the Draft EIS should be received by July 18, 2016 by one of the following methods:

• Mail: U.S. Postal Service to: Black & Veatch Special Projects Corp. Attn: MDA CIS EIS, 6800 W 115th Street, Suite 2200, Overland Park, KS-66211-2420.

• Email: MDA.CIS.EIS@BV.com.

Public comments on the Draft EIS are requested pursuant to the NEPA. All written comments received during the comment period will become part of the public record. Providing private address information with your comment is voluntary and such personal information will be kept confidential unless release is required by law. All comments received by the public, including at public meetings, will be addressed in the Final EIS. A NOA will be published notifying the public of the final EIS.

FOR FURTHER INFORMATION CONTACT: Mr. Christopher Johnson, MDA Public Affairs, at 571-231-8212, or by email: mda.info@mda.mil. For more information, including a downloadable copy of the Draft EIS, visit the MDA Web site at http://www.mda.mil.

SUPPLEMENTARY INFORMATION:

Proposed Action and Alternative: The Department of Defense (DoD) does not have a proposed action and has not made a decision to deploy or construct an additional interceptor site. Current sites in Alaska and California provide the necessary protection of the homeland from a ballistic missile attack by countries such as North Korea and Iran. If the DoD were to make a decision in the future to construct a new site, the prior completion of the required site studies and EIS could shorten the timeline necessary to build such a site.

If deployed, a CIS would be an extension of the existing Ground-based Midcourse Defense (GMD) element of the Ballistic Missile Defense System. To the extent practicable, the CIS would be built as a contiguous Missile Defense Complex, similar to that found at Fort Greely, Alaska, and would consist of a deployment of up to a total of 60 Ground-Based Interceptors (GBIs) in up to three GBI fields. The GBIs would not be fired from their deployment site except in the Nation's defense and no test firing would be conducted at a CIS. The overall system architecture and baseline requirements for a notional CIS include, but are not limited to, the GBI fields, Command Launch Equipment, In-Flight Interceptor Communication System Data Terminals, GMD Communication Network, supporting facilities, such as lodging and dining, recreation, warehouse and bulk storage, vehicle storage and maintenance, fire station, hazardous materials/waste storage, and roads and parking where necessary.

Candidate site locations under consideration include: Fort Custer Training Center in Michigan; Camp Ravenna Joint Military Training Center in Ohio; and Fort Drum in New York. Earlier this year, MDA designated the Center for Security Forces Detachment Kittery Survival, Evasion, Resistance and Escape Facility (SERE East) in Redington Township, Maine as an Alternative Considered, but Not Carried Forward. The Draft EIS also analyzed a No Action Alternative or no CIS deployment. The DoD has not made a decision to deploy or construct a CIS and does not have a preferred alternative.

For each of the candidate site locations, the following resource areas were assessed: air quality, air space, biological, cultural, environmental justice, geology and soils, hazardous materials and hazardous waste management, health and safety, land use, noise, socioeconomics, transportation, utilities, water, wetlands, and visual and aesthetics.

Information: The MDA will host open house public meetings at each of the candidate site locations to review the Draft EIS. Similar to the scoping meetings held in August 2014, the open house event will allow attendees to talk with experts at a series of information stations. Attendees can learn about findings in the Draft EIS and may provide verbal and written comments.

The open house events and dates are as follows: (1) June 21, 2016 from 5:00 p.m. to 8:00 p.m.; Lakeview Middle School, 300 S. 28th St., Battle Creek, Michigan; (2) June 23, 2016 from 5:00 p.m. to 8:00 p.m.; Richland Community Center, 9400 E. Cd Ave., Richland, Michigan; (3) June 28, 2016 from 5:00 p.m. to 8:00 p.m.; Carthage Senior High School, 36500 New York 26, Carthage, New York; (4) June 30, 2016 from 5:00 p.m. to 8:00 p.m.; Ravenna High School, 6589 N. Chestnut Street, Ravenna, Ohio.

Dated: May 24, 2016.
Aaron Siegel,
Alternate OSD Federal Register Liaison Officer, Department of Defense.

[FR Doc. 2016-12681 Filed 5-27-16; 8:45 am]

BILLING CODE 5001-06-P